DEPARTMENT OF COMMERCE

National Oceanic and Atmospheric Administration

RIN 0648-XA20

Notice of Availability of Proposed Low Effect Habitat Conservation Plan for Washington Department of Natural Resources' Commercial Geoduck Fishery

AGENCY: National Marine Fisheries Service (NMFS), National Oceanic and Atmospheric Administration (NOAA), Commerce.

ACTION: Notice of availability; receipt of application.

SUMMARY: NMFS advises interested parties of Washington Department of Natural Resources' (WDNR) application for an incidental take permit (ITP), pursuant to section 10(a)(1)(B) of the Endangered Species Act of 1973, as amended (ESA). The requested 50-year permit would authorize the incidental take of covered species associated with WDNR's management of the State's Commercial Geoduck Fishery in Puget Sound and the Strait of Juan de Fuca.

NMFS is requesting comments on the permit application and on whether the proposed Geoduck Fishery Habitat Conservation Plan (HCP) qualifies as a “low-effect” HCP. The HCP is available for public review.

DATES: Written comments should be received on or before October 17, 2007.

ADDRESSES: All comments concerning the preparation of the HCP should be addressed to: Laura Hamilton, National Marine Fisheries Service, Washington State Habitat Office, 510 Desmond Drive SE, Suite 103, Lacey WA 98503, fscimile number 360-753-9517. Comments may be submitted by e-mail to the following address: geoduckHCP.nwt@noaa.gov. In the subject line of the e-mail, include the document indentifier: Geoduck HCP.

FOR FURTHER INFORMATION CONTACT: Laura Hamilton, NMFS (360)753-5820.

SUPPLEMENTARY INFORMATION:

Availability of Documents

Individuals wishing copies of the application or proposed HCP should contact NMFS by telephone (see FOR FURTHER INFORMATION CONTACT) or by letter (see ADDRESSES). Copies of the subject documents also are available for public inspection during regular business hours at NMFS' Washington State Habitat Office (see ADDRESSES) and are available at the following website: www.nwr.noaa.gov/Salmon-Habitat/Habitat-Conservation-Plans/Index.cfm.

Statutory Authority

Section 9 of the Endangered Species Act (ESA) (16 U.S.C. 1538) and implementing regulations prohibit the taking of animal species listed as endangered or threatened. The term “take” is defined under the ESA (16 U.S.C. 1532(19)) as to harass, harm, pursue, hunt, shoot, wound, kill, trap, capture, or collect, or to attempt to engage in any such conduct. NMFS' definition of “harm” includes significant habitat modification or degradation where it actually kills or injures fish or wildlife by significantly impairing essential behavioral patterns, including breeding, feeding, spawning, migrating, rearing, and sheltering (64 FR 60727, November 8, 1999).

Section 10 of the ESA and implementing regulations specify requirements for the issuance of incidental take permits (ITPs) to non-Federal entities for the take of endangered and threatened species. Regulations governing permits for threatened species and endangered species, respectively, are at 50 CFR 17.32 and 50 CFR 17.22. Any proposed take must be incidental to otherwise lawful activities, not appreciably reduce the likelihood of the survival and recovery of the species in the wild, and minimize and mitigate the impacts of such take to the maximum extent practicable. In addition, the applicant must prepare a habitat conservation plan (HCP) describing the impact that will likely result from such taking, the strategy for minimizing and mitigating the take, the funding available to implement such steps, alternatives to such taking, and the reason such alternatives are not being implemented.

Background

WDNR is seeking an ITP from NMFS for the incidental take of species that are listed as either threatened or endangered under the ESA, and certain species should they become listed during the 50-year term of the permit. The species under consideration for NMFS coverage include Chinook salmon (Oncorhynchus tshawytscha), Chum salmon (O. keta), coho salmon (O. kisutch), pink salmon (O. gorbuscha), Pacific herring (Clupea harengus pallasi), steelhead (O. mykiss), southern resident orca (Orcinus orca), pinto abalone (Haliotis kamtschatkana), and Olympia oyster (Ostrea conchaphila). The ITP would provide ESA regulatory certainty for Washington State's commercial geoduck fishery. Proposed covered activities under the HCP include the sub-tidal harvest of wild stock geoduck clams on state-owned aquatic lands for commercial, research and health sampling purposes.

The majority of subtidal land in the state, and the resources embedded in them, are owned by Washington State and managed by the WDNR. The geoduck clam is among the most commercially valuable of these resources.

The wild geoduck fishery in the state is jointly managed by WDNR, Washington Department of Fish and Wildlife (WDFW), and the Puget Sound Treaty Indian Tribes (Tribes). The state and the Tribes each have a right to 50 percent of the allowable geoduck catch. The state and the Tribes are jointly responsible for estimating geoduck population size, determining sustainable yield, and protecting the health of the geoduck stock and the habitat they depend upon. WDNR offers the state's half of the geoduck harvest at auctions for the right of private companies and individuals to harvest specific quantities of geoducks in specific areas. As the state's co-managers of the geoduck resource, WDNR and WDFW enforce civil and criminal Washington State laws, regulations and contract conditions that apply to the state's fishery.

Washington's commercial geoduck fishery is divided into six geoduck management regions. Commercial harvest occurs within one management region at a time, and usually on one tract at a time. There are currently 192 commercial geoduck tracts comprising approximately 29,908 acres of subtidal bedlands. Ten to fourteen harvest quotas are offered at each WDNR geoduck harvest auction, resulting in 30 to 40 individual harvest agreements annually. Typically, one or two tracts are open for harvest at any given time. The tract boundaries are defined by a water depth of -18 feet (5.49 meters) mean lower low water (MLLW) to the outer edge of the harvest area depth of -70 feet (21.37 meters) MLLW. Most of the subtidal tracts range in size from 18 acres to 459 acres. A small number of tracts are larger. Harvest limits are based on the annual harvest level Total Allowable Catch (TAC). The TAC for a management region is the total weight of geoduck that may be harvested during the year in each management region. The number is calculated annually and is the product of the regional commercial biomass estimate multiplied by the equilibrium harvest rate.

Harvesting is done by divers in shallow waters relatively close to shore. A water-jet is used which consists of a nozzle about 18 inches (0.6 meters) long with a 5/8 inch diameter (0.02 meters) tip at the digging end. The harvester simultaneously inserts the nozzle next to a geoduck siphon and grasps the siphon. A short burst of ambient water drawn from the surface at between 77-89 gallons per minute with a pressure of about 80 pounds per square inch, liquefies the sediment allowing for removal of the geoduck. The divers operate from medium sized 25 to 60 feet (7.62 to 18.29 meters) anchored boats, equipped with pumps and compressors to provide the divers with air through hoses, as well as to pressurize the water for the jets. In addition to one to two divers, each boat has a tender onboard to monitor the pumps and compressors and to haul harvested geoduck aboard. The tender and divers are in constant contact via telemetry (communications) through the diver's umbilical.

The proposed minimization and mitigation measures include, but are not limited to: limiting the number of acres open to harvest in each management region per year; permitting harvest only from tracts designated through contract by WDNR; clearly marking tracts with easily identifiable stakes and/or buoys, and recording latitude and longitude positions on all markers; limiting surface noise levels; applying harvest boundaries and buffers to protect eelgrass beds, forage fish spawning areas and other sensitive nearshore habitats and providing direct oversight of the fishery by maintaining compliance staff aboard vessels on harvest tracts each day that commercial geoduck harvest occurs.

Approval of the HCP may qualify as a “low-effect” plan as defined by the Habitat Conservation Planning Handbook (NMFS and USFWS, November, 1996). Determination of low effect HCPs is based upon the plan having: minor or negligible effects on federally-listed, proposed, or candidate species and their habitats; minor or negligible effects on other environmental values or resources; and, impacts that considered together with the impacts of other past, present, and reasonably foreseeable similarly situated projects would not result, over time, in cumulative effects to the environmental values or resources which would be considered significant. If the plan is found to qualify as a low-effect HCP, further NEPA documentation beyond a categorical exclusion review would not be required by NMFS.

Request for Comments

If you wish to comment on the permit application or the proposed HCP, you may submit your comments to the address listed in the ADDRESSES section of this document. NMFS requests that comments be specific. In particular, we request information regarding: direct, indirect, and cumulative impacts that implementation of the proposed HCP or other alternatives could have on endangered and threatened and other covered species, and their communities and habitats; potential adaptive management and/or monitoring provisions; funding issues; existing environmental conditions in the plan area; other plans or projects that might be relevant to this proposed project; permit duration; maximum acreage that should be covered; specific species that should or should not be covered; and minimization and mitigation efforts. We will evaluate this permit application, associated documents, and comments submitted thereon to determine whether the permit application meets the requirements of section 10(a) of the ESA and NEPA regulations.

Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety.

If we determine that the requirements are met, we will issue an incidental take permit under section 10(a)(1)(B) of the ESA to the Applicant for take of the proposed covered species, incidental to otherwise lawful activities in accordance with the terms of the permit. We will not make our final decision until after the end of the 30-day comment period and will fully consider all comments received during the comment period.

NMFS provides this notice pursuant to section 10(c) of the ESA and pursuant to implementing regulations for NEPA (40 CFR 1506.6).

Dated: September 11, 2007.
Angela Somma,
Chief, Endangered Species Division, National Marine Fisheries Service.

[FR Doc. E7-18305 Filed 9-14-07; 8:45 am]

BILLING CODE 3510-22-S